DEPARTMENT OF JUSTICE

Notice of Lodging of a Consent Decree Under the Comprehensive Environmental Response, Compensation and Liability Act of 1980, as Amended

Under 42 U.S.C. 9622, notice is hereby given that on December 17, 2001, a proposed Consent Decree in United States v. City of Jacksonville, et al., Civil Action No. 3:01cv1424J 21TEM was lodged with the United States District Court for the Middle District of Florida, Jacksonville Division.

In this action, the United States seeks reimbursement of response costs, performance of injunctive relief, and payment of natural resource damages pertaining to the Whitehouse Oil Pits Site in Whitehouse, Florida. The United States alleges that the defendants are liable under section 107(a) of the Comprehensive Environmental Response, Compensation and Liability Act of 1980 (CERCLA), as amended, because they operated the site at the time of a disposal of hazardous substances, or they sent hazardous substances to the site for disposal. The defendants in this action are: City of Jacksonville, Florida, Anchor Glass Container Corp., BP America, Inc., Chevron Environmental Management Co., Chevron USA, Inc., City of Starke, Florida, CSX Transportation, Inc., David J. Joseph Company, Exxon Mobil Corporation, Florida East Coast Railway, Norfolk Southern Railway, Ryder Truck Rental, Inc., USA Petroleum Corporation, Viacom, Inc., Western Auto Supply Company.

In settlement of the claims raised in the Complaint, a group of defendants will perform remedial work at the site. This work generally requires the installation of a vertical barrier to isolate contaminated soil, sludge, and groundwater; installation of a lime “curtain” inside the barrier to adjust groundwater pH; a cap over portions of the site; and realignment of McGirts Creek so that it runs farther away from the site. The work is expected to cost approximately $14,067,054, including operation, maintenance, and oversight by the United States Environmental Protection Agency. Other defendants will contribute to the cost of the remedy, as will the United States government and parties who are settling their liability under a separate administrative settlement. The defendants are also paying $77,000 to settle the claim for natural resource damages.

The Department of Justice will receive comments relating to the proposed Consent Decree for a period of thirty (30) days from the date of this publication. As a result of the discovery of anthrax contamination at the District of Columbia mail processing center in mid-October, 2001, the delivery of regular first-class mail sent through the U.S. Postal Service has been disrupted. Consequently, public comments which are addressed to the Department of Justice in Washington, DC and sent by regular, first-class mail through the U.S. Postal Service are not expected to be received in timely manner. Therefore, comments should be addressed to the Assistant Attorney General, Environment and Natural Resources Division, Department of Justice, and sent: (1) c/o Michael Stephenson, U.S. EPA Region 4, Atlanta Federal Center, 61 Forsyth Street, SW., Atlanta, Georgia 30303; and/or (2) by facsimile to (202) 353-0296; and/or (3) by overnight delivery, other than through the U.S. Postal Service, to Chief, Environmental Enforcement Section, 1425 New York Avenue, NW., 13th Floor, Washington, DC 20005. Each communication should refer on its face to United States v. City of Jacksonville, et al., DOJ No. 90-11-3-1588. Commenters may request an opportunity for a public meeting in the affected area, in accordance with Section 7003(d) of RCRA, 42 U.S.C. 6973(d).

The proposed Consent Decree may be examined at the office of the United States Attorney for the Middle District of Florida, 200 West Forsyth Street, Suite 700, Jacksonville, Florida, and at the Region 4 office of the Environmental Protection Agency, 61 Forsyth Street, SW., Atlanta, Georgia. A copy of the proposed Consent Decree may also be obtained by faxing a request to Tonia Fleetwood, Department of Justice Consent Decree Library, fax no. (202) 616-6584; phone confirmation no. (202) 514-1547. There is a charge for the copy (25 cent per page reproduction cost). Upon requesting a copy, please mail a check payable to the “U.S. Treasury”, in the amount of $55.00 to: Consent Decree Library, U.S. Department of Justice, PO Box 7611, Washington, DC 20044-7611. The check should refer to United States v. City of Jacksonville, et al., DOJ No. 90-11-3-1588. In requesting a copy exclusive of exhibits and defendants' signatures, please enclose a check in the amount of $13.75 (25 cents per page reproduction cost) payable to the Consent Decree Library.

Ellen Mahan,
Assistant Chief, Environmental Enforcement Section, Environment and Natural Resources Division.

[FR Doc. 02-1116 Filed 1-15-02; 8:45 am]

BILLING CODE 4410-15-M